DEPARTMENT OF THE INTERIOR

Fish and Wildlife Service

50 CFR Part 17

[Docket No. FWS-R1-ES-2009-0085; MO 92210-0-0009]

RIN 1018-AW88

Endangered and Threatened Wildlife and Plants; Revised Designation of Critical Habitat for Bull Trout in the Coterminous United States

AGENCY: Fish and Wildlife Service, Interior.

ACTION: Proposed rule; reopening of comment period.

SUMMARY: We, the U.S. Fish and Wildlife Service (Service), announce the reopening of the comment period on the proposed revision of critical habitat for the bull trout (Salvelinus confluentus) under the Endangered Species Act of 1973, as amended. In total, approximately 36,498 kilometers (km) (22,679 miles (mi)) of streams (which includes 1,585.7 km (985.30 mi) of marine shoreline area in the Olympic Peninsula and Puget Sound), and 215,870 hectares (ha) (533,426 acres (ac)) of reservoirs or lakes are being proposed for the revised critical habitat designation. If you have previously submitted comments, please do not resubmit them because we have already incorporated them in the public record and will fully consider them in our final decision.

DATES: We will consider comments received or postmarked on or before April 5, 2010. Please note that if you are using the Federal eRulemaking Portal (see ADDRESSES section, below) the deadline for submitting an electronic comment is 11:59 p.m., Eastern Standard Time, on April 5.

ADDRESSES: You may submit comments by one of the following methods:

• Federal eRulemaking Portal: http://www.regulations.gov. In the box that reads “Enter Keyword or ID,” enter the docket number for the proposed rule, which is FWS-R1-ES-2009-0085. Check the box that reads “Open for Comment/Submission,” and then click the Search button. You should then see an icon that reads “Submit a Comment.” Please ensure that you have found the correct rulemaking before submitting your comment.

• U.S. mail or hand-delivery: Public Comments Processing, Attn: FWS-R1-ES-2009-0085; Division of Policy and Directives Management; U.S. Fish and Wildlife Service; 4401 N. Fairfax Drive, Suite 222; Arlington, VA 22203.

We will post all comments on http://www.regulations.gov. This generally means that we will post any personal information you provide us (see the Public Comments section below for more information).

Information regarding this notice is available in alternative formats upon request.

FOR FURTHER INFORMATION CONTACT: Gary Burton, Acting Field Supervisor, U.S. Fish and Wildlife Service, Idaho Fish and Wildlife Office, 1387 South Vinnell Way, Boise, ID 83702; telephone 208-378-5243; facsimile 208-378-5262. If you use a telecommunications device for the deaf (TDD), call the Federal Information Relay Service (FIRS) at 800-877-8339.

SUPPLEMENTARY INFORMATION: On January 14, 2010, we published our proposed revised designation of critical habitat for bull trout in the coterminous United States (75 FR 2269). This proposed rule established a 60-day comment period and announced the availability of the draft economic analysis (DEA) of the proposed revised critical habitat designation. At the request of the public, we are reopening the comment period until April 5, 2010.

All details of the proposed revised critical habitat designation are provided in our January 14, 2010, proposed rule, available online at http://www.regulations.gov, or by contacting the Idaho Fish and Wildlife Office (see FOR FURTHER INFORMATION CONTACT). Copies of the previous proposed and final bull trout critical habitat rules and a map showing the relationship of the 2005 critical habitat designation and the current proposed revised designation are available on the Idaho Fish and Wildlife Office Web site at http://www.fws.gov/pacific/bulltrout. The draft economic analysis is available for review at http://www.regulations.gov, or at http://www.fws.gov/pacific/bulltrout, or by contacting the Idaho Fish and Wildlife Office (see FOR FURTHER INFORMATION CONTACT). For further information on bull trout biology and habitat, population abundance and trends, distribution, demographic features, habitat use and conditions, threats, and conservation measures, please see the Bull Trout 5-year Review Summary and Evaluation, completed April 25, 2008. This document is available on the Idaho Fish and Wildlife Office Web site at http://ecos.fws.gov/docs/five_year_review/doc1907.pdf.

We are seeking data and comments from the public on all aspects of the proposed rule to revise the critical habitat designation for bull trout in the coterminous United States and the associated draft economic analysis. We may revise the proposed rule or supporting documents to incorporate or address information we receive during this reopened public comment period.

Public Comments

We intend that any final action resulting from the proposed rule will be based on the best scientific and commercial data available and be as accurate and as effective as possible. Therefore, we request comments or information from the public, other concerned government agencies, the scientific community, industry, or other interested parties concerning the proposed rule. We will consider information and recommendations from all interested parties. For the complete list of subjects on which we seeks comments, please refer to the January 14, 2010, proposed rule, available online at http://www.regulations.gov, or from the Idaho Fish and Wildlife Office (see FOR FURTHER INFORMATION CONTACT).

You may submit your comments and materials concerning our proposed rule and the associated DEA by one of the methods listed in the ADDRESSES section.

If you submit a comment via http://www.regulations.gov, your entire submission—including any personal identifying information—will be posted on the website. Before including your address, phone number, e-mail address, or other personal identifying information in your comment, you should be aware that your entire comment—including your personal identifying information—may be made publicly available at any time. While you can ask us in your comment to withhold your personal identifying information from public review, we cannot guarantee that we will be able to do so. We will post all hardcopy submissions on http://www.regulations.gov. Please include sufficient information with your comments to allow us to verify any scientific or commercial information you include.

Comments and materials we receive, as well as supporting documentation we used in preparing the proposed rule, will be available for public inspection on http://www.regulations.gov, or by appointment, during normal business hours, at the U.S. Fish and Wildlife Service, Idaho Fish and Wildlife Office (see FOR FURTHER INFORMATION CONTACT).

In preparing the final rule, we will consider all comments and any additional information that we receive during this reopened comment period on the proposed rule. Accordingly, the final decision may differ from the proposal.

Authority: The authority for this action is the Endangered Species Act of 1973, as amended (16 U.S.C. 1531 et seq.).

Dated: March 17, 2010.
Thomas L. Strickland,
Assistant Secretary for Fish and Wildlife and Parks.

[FR Doc. 2010-6401 Filed 3-22-10; 8:45 am]

BILLING CODE 4310-55-P